DEPARTMENT OF TRANSPORTATION

National Highway Traffic Safety Administration

[Docket No. NHTSA 2003-14467; Notice 2]

Michelin North America, Inc., Grant of Application for Decision That a Noncompliance Is Inconsequential to Motor Vehicle Safety

Michelin North America, Inc., (MNA) has determined that approximately 504 size P225/55R17 BFGoodrich Comp T/A VR4 tires do not meet the labeling requirements mandated by Federal Motor Vehicle Safety Standard (FMVSS) No. 109, “New Pneumatic Tires.”

Pursuant to 49 U.S.C. 30118(d) and 30120(h), MNA has petitioned for a determination that this noncompliance is inconsequential to motor vehicle safety and has filed an appropriate report pursuant to 49 CFR Part 573, “Defect and Noncompliance Reports.” Notice of receipt of the application was published, with a 30-day comment period, on February 27, 2003, in the Federal Register (68 FR 9113). NHTSA received no comment on this application.

FMVSS No. 109 (S4.3(e)) requires that each tire shall have permanently molded into or onto both sidewalls the actual number of plies in the sidewall, and the actual number of plies in the tread area if different.

The noncompliance with S4.3 (e) relates to the sidewall markings. MNA's Ardmore, Oklahoma plant produced approximately 504 tires with incorrect markings during the period from October 3, 2002, through October 5, 2002. The noncompliant tires were marked: “Tread Plies: 1 Polyester + 2 Steel + 1 Nylon, Sidewall Plies: 1 Polyester.” The correct marking required by FMVSS No. 109 is as follows: “Tread Plies: 2 Polyester + 2 Steel + 1 Nylon, Sidewall Plies: 2 Polyester.”

MNA stated that the noncompliant tires were actually constructed with more polyester sidewall plies than indicated on the sidewall marking (2 polyester plies rather than the 1 indicated). Therefore, this noncompliance is particularly unlikely to have an adverse effect on motor vehicle safety and is clearly inconsequential in that regard. The noncompliant tires meet or exceed all performance requirements of FMVSS No. 109 and will have no impact on the operational safety of vehicles on which these tires are mounted.

NHTSA strongly considers that the true measure of inconsequentiality to motor vehicle safety, in this case, is the effect of the noncompliance on the operational safety of vehicles on which these tires are mounted. NHTSA published a relevant ANPRM in the Federal Register on December 1, 2000 (65 FR 75222). Most comments expressed the opinion that the tire construction information label (number of plies and type of ply cord material in the sidewall and tread) is of little or no safety value to consumers and that most consumers do not even understand tire construction technology.

In this situation, MNA has incorrect sidewall markings on approximately 504 tires produced at their Oklahoma Plant. Except for the incorrect sidewall plies marking that indicated that the tire was constructed, with 1 polyester plie when in actuality it was constructed with 2 polyester plies, the tires are fabricated in accordance with FMVSS No. 109. All other labeling information, such as the tire size and load rating were accurately provided on the tires. Additionally, this labeling noncompliance has no effect on the safety performance of the subject tires. In fact, tires with 2 polyester plies are “typically more robust” than 1 polyester ply.

In consideration of the foregoing, NHTSA has decided that the applicant has met its burden of persuasion that the noncompliance is inconsequential to motor vehicle safety. Accordingly, its application is granted and the applicant is exempted from providing the notification of the noncompliance as required by 49 U.S.C. 30118, and from remedying the noncompliance, as required by 49 U.S.C. 30120.

Authority: (49 U.S.C. 301118, 301120; delegations of authority at 49 CFR 1.50 and 501.8)

Issued on: March 9, 2005.
H. Keith Brewer,
Director, Office of Crash Avoidance Standards.

[FR Doc. 05-5035 Filed 3-14-05; 8:45 am]

BILLING CODE 4910-59-P